DEPARTMENT OF VETERANS AFFAIRS

[OMB Control No. 2900-0108]

Agency Information Collection Activity Under OMB Review: Report of Income From Property or Business

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before February 9, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0108” in any correspondence.

FOR FURTHER INFORMATION CONTACT: Cynthia Harvey-Pryor, Office of Quality, Privacy and Risk, Department of Veterans Affairs, 811 Vermont Avenue, Floor 5, Area 368, Washington, DC 20420, (202) 461-5870 or email cynthia.harvey-pryor@va.gov. Please refer to “OMB Control No. 2900-0108” in any correspondence.

SUPPLEMENTARY INFORMATION:

Authority: 38 U.S.C. 1521, 1541, 1315.

Title: Report of Income From Property or Business, VA Form 21P-4185.

OMB Control Number: 2900-0108.

Type of Review: Extension without change of a currently approved collection.

Abstract: A claimant's eligibility to Pension or Parents' Dependency and Indemnity Compensation (DIC) is determined, in part, by the claimant's countable income. Authority is found at 38 U.S.C. 1521, 38 U.S.C. 1541, and 38 U.S.C. 1315. VA Form 21P-4185 is used to gather information that is necessary to determine a claimant's countable income received from rental property and/or operation of a business. Some expenses associated with rental property and business operation are deductible from the gross income received. Complete information about expenses and income is necessary in order to determine the net amount of income that is countable. The information is used to determine eligibility for VA benefits, and, if eligibility exists, the proper rate of payment.

An agency may not conduct or sponsor, and a person is not required to respond to a collection of information unless it displays a currently valid OMB control number. The Federal Register Notice with a 60-day comment period soliciting comments on this collection of information was published at Vol. 82, No. 205, Wednesday, October 25, 2017, page 49482.

Affected Public: Individuals and households.

Estimated Annual Burden: 3,500 hours.

Estimated Average Burden per Respondent: 30 minutes.

Frequency of Response: Once.

Estimated Number of Respondents: 7,000.

By direction of the Secretary.
Cynthia Harvey-Pryor,
Department Clearance Officer, Office of Quality, Privacy and Risk, Department of Veterans Affairs.

[FR Doc. 2018-00230 Filed 1-9-18; 8:45 am]

BILLING CODE 8320-01-P